DEPARTMENT OF THE INTERIOR

Fish and Wildlife Service

Draft Comprehensive Conservation Plan and Environmental Assessment for the Agassiz National Wildlife Refuge, Marshall County, MN

AGENCY: Fish and Wildlife Service, Interior.

ACTION: Notice of availability.

SUMMARY: The U.S. Fish and Wildlife Service announces that the Draft Comprehensive Conservation Plan (CCP) and Environmental Assessment (EA) is available for Agassiz NWR, Minnesota.

The CCP was prepared pursuant to the National Wildlife Refuge System Administration Act of 1966, as amended by the National Wildlife Refuge System Improvement Act of 1997, and the National Environmental Policy Act of 1969. Goals and objectives in the CCP describe how the agency intends to manage the refuge over the next 15 years.

DATES: Written comments on the Draft CCP/EA will be accepted up to 30 days after publication of this notice in the Federal Register.

ADDRESSES: Copies of the Draft CCP are available on compact disk or hard copy. You may access and download a copy via the planning Web site (http://midwest.fws.gov/planning/agassiz/index.html) or you may obtain a copy by writing to the following address: U.S. Fish and Wildlife Service, Division of Conservation Planning, Bishop Henry Whipple Federal Building, 1 Federal Drive, Fort Snelling, MN 55111.

FOR FURTHER INFORMATION CONTACT: Margaret Anderson at (218) 449-4115.

SUPPLEMENTARY INFORMATION: The Agassiz National Wildlife, established in 1937, is located in the northwest corner of Minnesota at the juncture of the northern boreal forest, the eastern deciduous forest, and the tallgrass prairie. The Refuge's 61,500 acres are a key breeding ground for 17 species of ducks, as well as an important migration rest stop for waterfowl, but it is also noted for gray wolves, moose, and nesting Bald Eagles.

The EA evaluates three different approaches, or alternatives, to future management of the Agassiz NWR. The plan also identifies wildlife-dependent recreational opportunities available to the public including hunting, fishing, wildlife observation and photography, and environmental education and interpretation. The preferred alternative calls for (1) larger areas of prairie grasslands and sedge meadow habitats, (2) increased winter wildlife observation opportunities, and (3) expanded deer hunting opportunities, late-season ruffed grouse hunting, and an early fall youth waterfowl hunt on a portion of the refuge.

The National Wildlife Refuge System Administration Act of 1966, as amended by the National Wildlife Refuge System Improvement Act of 1997 (16 U.S.C. 668dd-668ee et seq.) requires a CCP. The purpose in developing CCPs is to provide refuge managers with a 15-year strategy for achieving refuge purposes and contributing toward the mission of the National Wildlife Refuge System, consistent with sound principles of fish and wildlife science, conservation, legal mandates, and Service policies. In addition to outlining broad management direction for conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: November 8, 2004.
Charles M. Wooley,
Acting Regional Director, Region 3, U.S. Fish and Wildlife Service, Fort Snelling, MN.

[FR Doc. 05-4557 Filed 3-8-05; 8:45 am]

BILLING CODE 4310-55-P